DEPARTMENT OF COMMERCE

International Trade Administration

[C-570-030; C-580-882]

Certain Cold-Rolled Steel Flat Products From the People's Republic of China and the Republic of Korea: Final Results of the Expedited First Sunset Reviews of the Countervailing Duty Orders

AGENCY: Enforcement and Compliance, International Trade Administration, Department of Commerce.

SUMMARY: As a result of these expedited sunset reviews, the Department of Commerce (Commerce) finds that revocation of the countervailing duty orders on certain cold-rolled steel flat products (cold-rolled steel) from the People's Republic of China (China) and the Republic of Korea (Korea) would be likely to lead to continuation or recurrence of countervailable subsidies at the levels as indicated in the “Final Results of Sunset Reviews” section of this notice.

DATES: Applicable October 4, 2021.

FOR FURTHER INFORMATION CONTACT: Tyler Weinhold or Harrison Tanchuck, AD/CVD Operations, Office VI, Enforcement and Compliance, International Trade Administration, U.S. Department of Commerce, 1401 Constitution Avenue NW, Washington, DC 20230; telephone: (202) 482-3362 and (202) 482-7421 respectively.

SUPPLEMENTARY INFORMATION:

Background

On June 1, 2021, Commerce published the notice of initiation of the first sunset reviews of the Orders,¹ pursuant to section 751(c) of the Tariff Act of 1930, as amended (the Act).² Commerce received a notice of intent to participate from Cleveland-Cliffs Inc., California Steel Industries and Steel Dynamics Inc., Nucor Corporation, and United States Steel Corporation (collectively, domestic interested parties) within the deadline specified in 19 CFR 351.218(d)(1)(i).³ Each claimed interested party status under section 771(9)(C) of the Act as domestic producers engaged in the production in the United States of cold-rolled steel.

¹ See Certain Cold-Rolled Steel Flat Products from the People's Republic of China: Countervailing Duty Order, 81 FR 45960 (July 14, 2016); and Certain Cold-Rolled Steel Flat Products from Brazil, India, and the Republic of Korea: Amended Final Affirmative Countervailing Duty Determination and Countervailing Duty Order (the Republic of Korea) and Countervailing Duty Orders (Brazil and India), 81 FR 64436 (September 20, 2016) (collectively, the Orders).

² See Initiation of Five-Year (Sunset) Review, 86 FR 29239 (June 1, 2021).

³ See Cleveland-Cliffs Inc.'s Letter, “Five-Year (`Sunset') Review Of Countervailing Duty Order on ColdRolled Steel Flat Products from China: Notice of Intent to Participate in Sunset Review,” dated June 14, 2021; see also California Steel Industries and Steel Dynamics Inc.'s Letter, “Certain Cold-Rolled Steel Flat Products from the Republic of Korea: Notice of Intent to Participate in Sunset Notice of Intent to Participate in the First Five-Year Review of the Countervailing Duty Order on Cold-Rolled Steel Flat Products from the People's Republic of China,” dated June 16, 2021; Cleveland-Cliffs Inc.'s Letter, “Five-Year (`Sunset') Review of Countervailing Duty Order on Cold Rolled Steel Flat Products from the Republic of Korea: Notice of Intent to Participate in Sunset Review,” dated June 14, 2021; U.S. Steel's Letter, “Five-Year (`Sunset') Review of Antidumping and Countervailing Duty Orders on Cold-Rolled Steel Flat Products from South Korea: Notice of Intent to Participate,” dated June 16, 2021; California Steel Industries and Steel Dynamics Inc.'s Letter, “Notice of Intent to Participate in the First Five-Year Review of the Countervailing Duty Order on Cold-Rolled Steel Flat Products from the Republic of Korea,” dated June 16, 2021; and Nucor Corporation's Letter “Certain Cold-Rolled Steel Flat Products from the Republic of Korea: Notice of Intent to Participate in Sunset Review,” dated June 16, 2021.

Commerce received a substantive response from the domestic interested parties within the 30-day deadline specified in 19 CFR 351.218(d)(3)(i).⁴ We did not receive a substantive response from any other interested party in these proceedings, and no party requested a hearing.

⁴ See Domestic Interested Parties' Letters, “Cold-Rolled Steel Flat Products from the People's Republic of China: Substantive Response of the Domestic Interested Parties to Commerce's Notice of Initiation of Five-Year (`Sunset') Reviews,” dated July 1, 2021; and “Cold-Rolled Steel Flat Products from the Republic of Korea: Substantive Response to Notice of Initiation of Sunset Review,” dated July 1, 2021.

On July 22, 2021, Commerce notified the U.S. International Trade Commission that it did not receive an adequate substantive response from respondent interested parties.⁵ As a result, pursuant to section 751(c)(3)(B) of the Act and 19 CFR 351.218(e)(1)(ii)(C)(2), Commerce conducted expedited (120-day) sunset reviews of these Orders.

⁵ See Commerce's Letter, “Sunset Reviews Initiated on June 1, 2021,” dated June 1, 2021.

Scope of the Orders

The products covered by these Orders are certain cold-rolled (cold-reduced), flat-rolled steel products. For a complete description of the scope of this order, see the Issues and Decision Memorandum.⁶

⁶ See Memorandum, “Issues and Decision Memorandum for the Expedited First Sunset Review of the Countervailing Duty Orders of Certain Cold-Rolled Steel Flat Products from the People's Republic of China and the Republic of Korea,” dated concurrently with, and hereby adopted by, this notice (Issues and Decision Memorandum).

Analysis of Comments Received

All issues raised in these sunset reviews are addressed in the Issues and Decision Memorandum, including the likelihood of continuation or recurrence of countervailable subsidies and the net countervailable subsidy likely to prevail if the Orders were revoked.⁷ The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://enforcement.trade.gov/frn/index.html.

⁷ Id.

Final Results of Sunset Reviews

Pursuant to sections 751(c)(1) and 752(b) of the Act, Commerce determines that revocation of the Orders would be likely to lead to the continuation or recurrence of countervailable subsidies at the following rates:

Manufacturer/producer/ exporter | Subsidy rate (percent)
Cold-Rolled Steel From China
Angang Group Hong Kong Co., Ltd | 256.44
Benxi Iron and Steel (Group) Special Steel Co., Ltd | 256.44
Qian'an Golden Point Trading Co., Ltd | 256.44
All Others | 256.44
Cold-Rolled Steel From Korea
Hyundai Steel Co., Ltd | 4.04
POSCO | 51.80
All Others | 13.19

Administrative Protective Order

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing this notice in accordance with sections 751(c), 752(b), and 777(i)(1) of the Act.

Dated: September 28, 2021.
Christian Marsh,
Acting Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely To Prevail

3. Nature of the Subsidies

VII. Final Results of Review

VIII. Recommendation

[FR Doc. 2021-21563 Filed 10-1-21; 8:45 am]

BILLING CODE 3510-DS-P